DEPARTMENT OF HEALTH AND HUMAN SERVICES

Food and Drug Administration

[Docket No. 2006F-0225]

Georgia-Pacific Resins, Inc.; Filing of Food Additive Petition

AGENCY: Food and Drug Administration, HHS.

ACTION: Notice.

SUMMARY: The Food and Drug Administration (FDA) is announcing that Georgia-Pacific Resins, Inc., has filed a petition proposing that the food additive regulations be amended to provide for the safe use of glycerol ester of tall oil rosin to adjust the density of citrus oils used in the preparation of beverages and to provide for the use of steam stripping as a purification method for producing glycerol ester of wood rosin, gum rosin, or tall oil rosin.

FOR FURTHER INFORMATION CONTACT: Clarence W. Murray III, Center for Food Safety and Applied Nutrition (HFS-265), Food and Drug Administration, 5100 Paint Branch Pkwy., College Park, MD 20740-3835, 301-436-1311.

SUPPLEMENTARY INFORMATION: Under the Federal Food, Drug, and Cosmetic Act (sec. 409(b)(5) (21 U.S.C. 348(b)(5))), notice is given that a food additive petition (FAP 6A4765) has been filed by Georgia-Pacific Resins, Inc., P.O. Box 105734, Atlanta, GA 30348. The petition proposes to amend the food additive regulations in § 172.735 Glycerol ester of wood or gum rosin (21 CFR 172.735) to provide for the following: (1) The safe use of glycerol ester of tall oil rosin to adjust the density of citrus oils used in the preparation of beverages; and (2) the use of steam stripping as a purification method for producing glycerol ester of wood rosin, gum rosin, or tall oil rosin.

The agency has determined under 21 CFR 25.32(k) that this action is of a type that does not individually or cumulatively have a significant effect on the human environment. Therefore, neither an environmental assessment nor an environmental impact statement is required.

Dated: May 24, 2006.
Laura M. Tarantino,
Director, Office of Food Additive Safety, Center for Food Safety and Applied Nutrition.

[FR Doc. E6-9319 Filed 6-14-06; 8:45 am]

BILLING CODE 4160-01-S